DEPARTMENT OF ENERGY

Federal Energy Regulatory Commission

Combined Notice of Filings No. 2

October 6, 2009.

Take notice that the Commission has received the following Natural Gas Pipeline Rate and Refund Report filings:

Docket Numbers: RP02-361-078.

Applicants: Gulfstream Natural Gas System, L.L.C.

Description: Gulfstream Natural Gas System, LLC submits Fifth Revised Sheet No. 8.01p et al., to its FERC Gas Tariff, Original Volume No. 1.

Filed Date: 09/30/2009.

Accession Number: 20091001-0074.

Comment Date: 5 p.m. Eastern Time on Tuesday, October 13, 2009.

Docket Numbers: RP02-534-016.

Applicants: Guardian Pipeline, L.L.C.

Description: Guardian Pipeline, LLC submits Second Revised Sheet 9 to its FERC Gas Tariff, Original Volume 1.

Filed Date: 09/30/2009.

Accession Number: 20090930-0085.

Comment Date: 5 p.m. Eastern Time on Tuesday, October 13, 2009.

Docket Numbers: RP99-480-025.

Applicants: Texas Eastern Transmission LP.

Description: Texas Eastern Transmission, LP submits Original Sheet No. 121B et al., to its FERC Gas Tariff, Seventh Revised Volume No. 1.

Filed Date: 09/30/2009.

Accession Number: 20091001-0073.

Comment Date: 5 p.m. Eastern Time on Tuesday, October 13, 2009.

Docket Numbers: RP09-880-001.

Applicants: Northern Border Pipeline Company.

Description: Northern Border Pipeline Company submits tariff sheet in compliance with Commission's Letter Order dated 9/9/09.

Filed Date: 09/16/2009.

Accession Number: 20090916-0089.

Comment Date: 5 p.m. Eastern Time on Friday, October 9, 2009.

Docket Numbers: RP09-1043-002.

Applicants: Equitrans, L.P.

Description: Equitrans submits response to data request issued 9/25/09.

Filed Date: 10/01/2009.

Accession Number: 20091002-0178.

Comment Date: 5 p.m. Eastern Time on Tuesday, October 13, 2009.

Docket Numbers: RP09-1055-001.

Applicants: Transcontinental Gas Pipe Line Company.

Description: Transcontinental Gas Pipe Line Company, LLC submits Sub. First Revised Sheet 466 to its FERC Gas Tariff, Fourth Revised Volume 1, to be effective 10/22/09.

Filed Date: 10/02/2009.

Accession Number: 20091002-0209.

Comment Date: 5 p.m. Eastern Time on Wednesday, October 14, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern Time on the specified comment dates. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-24581 Filed 10-13-09; 8:45 am]

BILLING CODE 6717-01-P